DEPARTMENT OF HEALTH AND HUMAN SERVICES

Centers for Medicare & Medicaid Services

Privacy Act of 1974; Computer Matching Program (Match No. 2001-05)

AGENCY: Department of Health and Human Services (HHS), Centers for Medicare & Medicaid Services (CMS) (formerly the Health Care Financing Administration).

ACTION: Notice of Computer Matching Program (CMP).

SUMMARY: In accordance with the requirements of the Privacy Act of 1974, as amended, this notice proposes to establish a new CMP that CMS plans to conduct with the Social Security Administration (SSA). We have provided background information about the proposed matching program in the “Supplementary Information” section below. Although the Privacy Act requires only that CMS provide an opportunity for interested persons to comment on the proposed matching program, CMS invites comments on all portions of this notice. See Effective Dates section below for comment period.

EFFECTIVE DATES: CMS filed a report of the CMP with the Chair of the House Committee on Government Reform and Oversight, the Chair of the Senate Committee on Governmental Affairs, and the Administrator, Office of Information and Regulatory Affairs, Office of Management and Budget (OMB) on March 29, 2002. We will not disclose any information under a matching agreement until 40 days after filing a report to OMB and Congress or 30 days after publication. We may defer implementation of this matching program if we receive comments that persuade us to defer implementation.

ADDRESSES: The public should address comments to: Director, Division of Data Liaison and Distribution (DDLD), Enterprise Databases Group, Office of Information Services, CMS, Mailstop N2-04-27, 7500 Security Boulevard, Baltimore, Maryland 21244-1850. Comments received will be available for review at this location, by appointment, during regular business hours, Monday through Friday from 9 a.m.-3 p.m., eastern daylight time.

FOR FURTHER INFORMATION CONTACT: Michael Collett, Health Insurance Specialist, Division of Provider/Supplier Enrollment, Program Integrity Group, Office of Financial Management, CMS, Mailstop N3-04-27, 7500 Security Boulevard, Baltimore, Maryland 21244-1850. The telephone number is (410) 786-6121, or e-mail mcollett@hhs.cms.gov.

SUPPLEMENTARY INFORMATION:

I. Description of the Matching Program

A. General

The Computer Matching and Privacy Protection Act (CMPPA) of 1988 (Public Law (Pub. L.) 100-503), amended the Privacy Act (5 U.S.C. § 552A) by describing the manner in which computer matching involving Federal agencies could be performed and adding certain protections for individuals applying for and receiving Federal benefits. Section 7201 of the Omnibus Budget Reconciliation Act of 1990 (Pub. L.100-508) further amended the Privacy Act regarding protections for such individuals. The Privacy Act, as amended, regulates the use of computer matching by Federal agencies when records in a system of records are matched with other Federal, state, or local government records. It requires Federal agencies involved in computer matching programs to:

1. Negotiate written agreements with the other agencies participating in the matching programs;

2. Obtain the Data Integrity Boards' (DIB) approval of the match agreements;

3. Furnish detailed reports about matching programs to Congress and OMB;

4. Notify applicants and beneficiaries that the records are subject to matching; and,

5. Verify match findings before reducing, suspending, terminating, or denying an individual's benefits or payments.

B. CMS Computer Matches Subject to the Privacy Act

CMS has taken action to ensure that all of the CMPs that this Agency participates in comply with the requirements of the Privacy Act of 1974, as amended.

Dated: March 29, 2002.
Thomas A. Scully,
Administrator, Centers for Medicare & Medicaid Services.

Computer Match No. 2001-05

NAME:

Computer Matching Agreement between the Centers for Medicare & Medicaid Services (CMS) (formerly the Health Care Financing Administration (HCFA)) and the Social Security Administration titled “Verification of Social Security Numbers (SSN)''.

SECURITY CLASSIFICATION:

Level Three Privacy Act Sensitive.

PARTICIPATING AGENCIES:

The Centers for Medicare & Medicaid Services; and Social Security Administration (SSA).

AUTHORITY FOR CONDUCTING MATCHING PROGRAM:

This Computer Matching Agreement (CMA) is executed to implement the information provisions of sections 1631(e) and (f) of the Social Security Act (the Act) (42 U.S.C. 1383 (e) and (f)). Section 4313 of the Balanced Budget Act (BBA) of 1997 amended, sections 1124(a)(1) and 1124A of the Act (42 U.S.C. sections 1320a-3(a)(1) and 1320a-3a) authorizes CMS to collect SSN following the publication of a Report to Congress as required in section 4313(d) of the Act. The Secretary of the Department of Health and Human Services (HHS) on January 26, 1999 signed the Report to Congress on the confidentiality of SSN that are collected and verified by the SSA.

PURPOSE(S) OF THE MATCHING PROGRAM:

The purpose of this CMA is to establish the conditions, safeguards, and procedures under which CMS will provide SSA with the information necessary to confirm the validity of identifying information submitted as part of the Medicare provider/supplier enrollment process. SSA will disclose information-matching SSNs provided by Medicare providers/suppliers to CMS.

CATEGORIES OF RECORDS AND INDIVIDUALS COVERED BY THE MATCH:

CMS will provide to the SSA, a real-time request or a batch file consisting of the name, SSN, and date of birth for all individual Medicare providers, owners, managing/directing employees, authorizing representatives, ambulance services Medical directors, ambulance crew members, technicians, chain organization administrators, Independent Diagnostic Testing Facilities (IDTF) supervising/directing physicians, and IDTF interpretation service providers that have been identified on one of the five applications in a series titled, “Medicare Federal Health Care Provider/Supplier Enrollment Applications” (HCFA Form 855A, 855B, 855I, 855R, and 855S). SSA agrees to conduct a computer match of the data provided by CMS utilizing the processes defined in the State Online Query System (SOLQ) system and/or the State Verification and Exchange System (SVES) and the files accessed by the SOLQ and/or the SVES. SSA will confirm that the name, SSN, and date of birth combination assigned to the individual identified on the HCFA Form 855 series application.

INCLUSIVE DATES OF THE MATCH:

The matching program shall become effective no sooner than 40 days after the report of the CMA notice is sent to OMB and Congress, or 30 days after publication in the Federal Register, which ever is later. The matching program will continue for 18 months from the effective date and may be extended for an additional 12 months thereafter, if certain conditions are met.

[FR Doc. 02-9204 Filed 4-15-02; 8:45 am]

BILLING CODE 4120-03-P